NUCLEAR REGULATORY COMMISSION

[NRC-2020-0042]

Biweekly Notice; Applications and Amendments to Facility Operating Licenses and Combined Licenses Involving No Significant Hazards Considerations

AGENCY: Nuclear Regulatory Commission.

ACTION: Biweekly notice.

SUMMARY: Pursuant to section 189.a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person. This biweekly notice includes all amendments issued, or proposed to be issued, from January 14, 2020, to January 27, 2020. The last biweekly notice was published on January 28, 2020.

DATES: Comments must be filed by March 12, 2020. A request for a hearing or petitions for leave to intervene must be filed by April 13, 2020.

ADDRESSES: You may submit comments by any of the following methods:

• Federal Rulemaking Website: Go to https://www.regulations.gov and search for Docket ID NRC-2020-0042. Address questions about NRC Docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Bernadette Abeywickrama, Office of Nuclear Reactor Regulations, 301-415-4081, email: Bernadette.Abeywickrama@nrc.gov, U.S. Nuclear Regulatory Commission, Washington, DC 20555-0001.

SUPPLEMENTARY INFORMATION:

I. Obtaining Information and Submitting Comments

A. Obtaining Information

Please refer to Docket ID NRC-2020-0042, facility name, unit number(s), docket number(s), application date, and subject when contacting the NRC about the availability of information for this action. You may obtain publicly-available information related to this action by any of the following methods:

• Federal Rulemaking Website: Go to https://www.regulations.gov and search for Docket ID NRC-2020-0042.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2020-0042, facility name, unit number(s), docket number(s), application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensee's analyses provided, consistent with title 10 of the Code of Federal Regulations (10 CFR) Section 50.91 is sufficient to support the proposed determination that these amendment requests involve NSHC. Under the Commission's regulations in 10 CFR 50.92, operation of the facility in accordance with the proposed amendment would not (1) involve a significant increase in the probability or consequences of an accident previously evaluated, or (2) create the possibility of a new or different kind of accident from any accident previously evaluated; or (3) involve a significant reduction in a margin of safety.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves NSHC. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final NSHC determination, any hearing will take place after issuance. The Commission expects that the need to take action on an amendment before 60 days have elapsed will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (first floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensee's proposed NSHC determination. For further details with respect to these license amendment applications, see the application for amendment which is available for public inspection in ADAMS and at the NRC's PDR. For additional direction on accessing information related to this document, see the “Obtaining Information and Submitting Comments” section of this document.

Dominion Nuclear Connecticut, Inc.; Millstone Power Station, Unit No. 2;
Waterford, CT
Application Date | December 17, 2019.
ADAMS Accession No | ML19353A022.
Location in Application of NSHC | Attachment 1, Pages 5 and 6.
Brief Description of Amendments | The proposed amendment would revise Technical Specification (TS) 6.25, “Pre-Stressed Concrete Containment Tendon Surveillance Program,” to replace the reference to Regulatory Guide 1.35 with a reference to Section XI, Subsection IWL of the American Society of Mechanical Engineers Boiler and Pressure Vessel Code. The proposed amendment would also delete the provisions of Surveillance Requirement 4.0.2 in TS 6.25.
Proposed Determination | NSHC.
Name of Attorney for Licensee, Mailing Address | Lillian M. Cuoco, Esq., Senior Counsel, Dominion Energy, Inc., 120 Tredegar Street, RS-2, Richmond, VA 23219.
Docket Nos | 50-336.
NRC Project Manager, Telephone Number | Richard Guzman, 301-415-1030.
DTE Electric Company; Fermi, Unit 2;
Monroe County, MI
Application Date | November 8, 2019.
ADAMS Accession No | ML19312A110.
Location in Application of NSHC | Pages 22-24, Enclosure 1.
Brief Description of Amendments | The proposed change would revise the Technical Specifications (TSs) to increase certain Surveillance Requirement (SR) intervals from 18 months to 24 months. The proposed modification to TS 5.5.15 would also review the requested SR interval increases in accordance with NRC Generic Letter 91-04. Additionally, the submittal also proposes changes to TS 5.5.7, “Ventilation Filter Testing Program,” and TS 5.5.14, “Control Room Envelope Habitability Program,” to increase the current 18-month testing intervals to 24 months.
Proposed Determination | NSHC.
Name of Attorney for Licensee, Mailing Address | Jon P. Christinidis, DTE Energy, Expert Attorney—Regulatory, 688 WCB, One Energy Plaza, Detroit, MI 48226
Docket Nos | 50-341.
NRC Project Manager, Telephone Number | Booma Venkataraman, 301-415-2934.
DTE Electric Company; Fermi, Unit 2;
Monroe County, MI
Application Date | December 6, 2019.
ADAMS Accession No | ML19340A088.
Location in Application of NSHC | Pages 11-12, Enclosure 1.
Brief Description of Amendments | The proposed change would revise TS 3.6.4.1, “Secondary Containment,” Surveillance Requirement (SR) 3.6.4.1.1. The SR would be revised to allow conditions during which the secondary containment pressure may not meet the SR pressure requirements. In addition, SR 3.6.4.1.3 would be modified to acknowledge that secondary containment access openings may be open for entry and exit when no movement of recently irradiated fuel is in progress. An administrative change is also requested for SR 3.6.4.1.5.
Proposed Determination | NSHC.
Name of Attorney for Licensee, Mailing Address | Jon P. Christinidis, DTE Energy, Expert Attorney—Regulatory, 688 WCB, One Energy Plaza, Detroit, MI 48226.
Docket Nos | 50-341.
NRC Project Manager, Telephone Number | Booma Venkataraman, 301-415-2934.
Exelon Generation Company, LLC; Calvert Cliffs Nuclear Power Plant, Units 1 and 2;
Calvert County, MD
Application Date | December 11, 2019.
ADAMS Accession No | ML19346E536.
Location in Application of NSHC | Pages 12 and 13 of Attachment 1.
Brief Description of Amendments | The proposed amendments would revise certain frequency and voltage acceptance criteria for steady-state emergency diesel generator surveillance testing in Calvert Cliffs Technical Specification 3.8.1, “AC Sources—Operating.”
Proposed Determination | NSHC.
Name of Attorney for Licensee, Mailing Address | Tamra Domeyer, Associate General Counsel, Exelon Generation Company, LLC, 4300 Winfield Road, Warrenville, IL 60555.
Docket Nos | 50-317, 50-318.
NRC Project Manager, Telephone Number | Michael L. Marshall, Jr., 301-415-2871.
Exelon Generation Company, LLC; Three Mile Island Nuclear Station, Unit 1;
Dauphin County, PA
Application Date | November 12, 2019.
ADAMS Accession No | ML19316C659.
Location in Application of NSHC | Pages 6, 7, and 8 of Attachment 1.
Brief Description of Amendments | The proposed amendment would delete permanently defueled Technical Specification (TS) 3/4.1.4, “Handling of Irradiated Fuel with the Fuel Handling Building Crane,” once the replacement fuel handling building crane is installed and made operable. The proposed amendment would also correct two minor omissions that are administrative in nature, which were identified during implementation of Three Mile Island Nuclear Station, Unit 1, permanently defueled TS Amendment No. 297. The proposed changes would revise the Appendix A, TSs, List of Figures, to include Figure 5-1, “Extended Plot Plan,” and add the proper page number, 5-1a, to permanently defueled TS Figure 5-1a.
Proposed Determination | NSHC.
Name of Attorney for Licensee, Mailing Address | Tamra Domeyer, Associate General Counsel, Exelon Generation Company, LLC, 4300 Winfield Road, Warrenville, IL 60555.
Docket Nos | 50-289.
NRC Project Manager, Telephone Number | Justin Poole, 301-415-2048.
FirstEnergy Nuclear Operating Company, Perry Nuclear Power Plant, Unit 1;
Lake County, OH
Application Date | December 18, 2019.
ADAMS Accession No | ML19352D673.
Location in Application of NSHC | Pages 3-4, Enclosure 1.
Brief Description of Amendments | The proposed amendment would revise the technical specifications for the safety limit on minimum critical power ratio (MCPR) to reduce the need for cycle-specific changes in accordance with Technical Specification Task Force (TSTF)-564, “Safety Limit MCPR.”
Proposed Determination | NSHC.
Name of Attorney for Licensee, Mailing Address | Rick Giannantonio, General Counsel, FirstEnergy Corporation, Mail Stop A-GO-15, 76 South Main Street, Akron, OH 44308.
Docket Nos | 50-440.
NRC Project Manager, Telephone Number | Scott Wall, 301-415-2855.
FirstEnergy Nuclear Operating Company; Perry Nuclear Power Plant, Unit 1;
Lake County, OH
Application Date | December 18, 2019.
ADAMS Accession No | ML19352D548.
Location in Application of NSHC | Pages 10-11, Enclosure 1.
Brief Description of Amendments | FirstEnergy Nuclear Operating Company, Perry Nuclear Power Plant, Unit 1, Lake County, OH.
Proposed Determination | The proposed amendment would modify the non-destructive examination inspection interval for refueling special lifting devices from annually, or prior to each use, typically at each refueling outage, to a 10-year interval.
Name of Attorney for Licensee, Mailing Address | Rick Giannantonio, General Counsel, FirstEnergy Corporation, Mail Stop A-GO-15, 76 South Main Street, Akron, OH 44308.
Docket Nos | 50-440.
NRC Project Manager, Telephone Number | Scott Wall, 301-415-2855.
FirstEnergy Nuclear Operating Company; Perry Nuclear Power Plant, Unit 1;
Lake County, OH
Application Date | December 18, 2019.
ADAMS Accession No | ML19352E549.
Location in Application of NSHC | Pages 15-17, Enclosure 1.
Brief Description of Amendments | The proposed amendment would revise the fire protection program licensing basis and abandon in place the general area heat detection system in the drywell.
Proposed Determination | NSHC.
Name of Attorney for Licensee, Mailing Address | Rick Giannantonio, General Counsel, FirstEnergy Corporation, Mail Stop A-GO-15, 76 South Main Street, Akron, OH 44308.
Docket Nos | 50-440.
NRC Project Manager, Telephone Number | Scott Wall, 301-415-2855.
Nine Mile Point Nuclear Station and Exelon Generation Company, LLC; Nine Mile Point Nuclear Station, Unit 2;
Oswego County, NY
Application Date | October 31, 2019.
ADAMS Accession No | ML19304B653.
Location in Application of NSHC | Attachment 1, Pages 5 and 6.
Brief Description of Amendments | The proposed amendment would allow the use of risk-informed completion times in the Nine Mile Point, Unit 2, Technical Specifications. The proposed changes are based on Technical Specifications Task Force Traveler, TSTF-505, Revision 2, “Provide Risk-Informed Extended Completion Times—RITSTF Initiative 4b” (ADAMS Accession No. ML18183A493).
Proposed Determination | NSHC.
Name of Attorney for Licensee, Mailing Address | Jason Zorn, Associate General Counsel, Exelon Generation Company, LLC, 101 Constitution Ave. NW, Suite 400, Washington, DC 20001.
Docket Nos | 50-410.
NRC Project Manager, Telephone Number | Michael L. Marshall, Jr., 301-415-2871.
Virginia Electric and Power Company; Surry Power Station, Unit Nos. 1 and 2;
Surry County, VA
Application Date | October 30, 2019.
ADAMS Accession No | ML19309D199.
Location in Application of NSHC | Pages 19, 20, and 21 of Attachment 1.
Brief Description of Amendments | The proposed amendment would revise the Technical Specification 3.16, “Emergency Power System,” to allow a one-time 14-day allowed outage time for replacement of the Reserve Station Service Transformer C 5KV cables to Transfer Bus F.
Proposed Determination | NSHC.
Name of Attorney for Licensee, Mailing Address | Lillian M. Cuoco, Esq., Senior Counsel, Dominion Energy, Inc., 120 Tredegar Street, RS-2, Richmond, VA 23219.
Docket Nos | 50-280, 50-281.
NRC Project Manager, Telephone Number | Thomas Vaughn, 301-415-5897.
Virginia Electric and Power Company; Surry Power Station, Unit Nos. 1 and 2;
Surry County, VA
Application Date | December 6, 2019.
ADAMS Accession No | ML19343A019.
Location in Application of NSHC | Pages 25 and 26 of Enclosure 1.
Brief Description of Amendments | The proposed amendments would modify the current licensing basis by the addition of a license condition to allow the implementation of the provisions of Title 10 of the Code of Federal Regulations (10 CFR) Section 50.69, “Risk-Informed Categorization and Treatment of Structures, Systems and Components for Nuclear Power Reactors.”
Proposed Determination | NSHC.
Name of Attorney for Licensee, Mailing Address | Lillian M. Cuoco, Esq., Senior Counsel, Dominion Energy, Inc., 120 Tredegar Street, RS-2, Richmond, VA 23219.
Docket Nos | 50-280, 50-281.
NRC Project Manager, Telephone Number | Thomas Vaughn, 301-415-5897.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action, see (1) the applications for amendment, (2) the amendment, and (3) the Commission's related letter, Safety Evaluation, and/or Environmental Assessment as indicated. All of these items can be accessed as described in the “Obtaining Information and Submitting Comments” section of this document.

Dominion Nuclear Connecticut, Inc.; Millstone Power Station, Unit Nos. 2 and 3;
New London County, WI, Virginia Electric and Power Company, Dominion
Nuclear Company; North Anna Power Station, Units 1 and 2; Louisa County, VA,
Virginia Electric and Power Company; Surry Power Station, Unit Nos. 1 and 2;
Surry County, VA
Date Issued | December 31, 2019.
ADAMS Accession No | ML19305D248.
Amendment Nos | 119 (Millstone Unit 1), 336 (Millstone Unit 2), 274 (Millstone Unit 3), 284 (North Anna Unit 1), 267 (North Anna Unit 2), 296 (Surry Unit 1), and 296 (Surry Unit 2).
Florida Power & Light Company, et al; St. Lucie Plant, Unit Nos. 1 and 2;
St. Lucie County, FL
Date Issued | January 27, 2020.
ADAMS Accession No | ML19266A072.
Amendment Nos | 250 (Unit 1) and 202 (Unit 2).
Brief Description of Amendments | The amendments revised the technical specifications to allow for the performance of selected emergency diesel generator surveillance requirements during power operation and relocated two surveillance requirements, for each unit, to licensee control.
Docket Nos | 50-335, 50-389.
Omaha Public Power District; Fort Calhoun Station, Unit No. 1;
Washington County, NE
Date Issued | January 10, 2020.
ADAMS Accession No | ML19346D680.
Amendment Nos | 300.
Brief Description of Amendments | The amendment replaced the Fort Calhoun Station Permanently Defueled Emergency Plan and associated Permanently Defueled Emergency Action Level (EAL) technical bases document with an Independent Spent Fuel Storage Installation Only Emergency Plan and associated EAL scheme.
Docket Nos | 50-285.
PSEG Nuclear LLC; Salem Nuclear Generating Station, Unit Nos. 1 and 2;
Salem County, NJ
Date Issued | January 14, 2020.
ADAMS Accession No | ML19330F156.
Amendment Nos | 331 (Unit 1) and 312 (Unit 2).
Brief Description of Amendments | The amendments adopted Technical Specifications Task Force (TSTF) Traveler TSTF-563, Revision 0, “Revise Instrument Testing Definitions to Incorporate the Surveillance Frequency Control Program.” TSTF-563 revised the technical specification definitions of “channel calibration” and “channel functional test.”
Docket Nos | 50-272, 50-311.
Susquehanna Nuclear, LLC and Allegheny Electric Cooperative, Inc.;
Susquehanna Steam Electric Station, Units 1 and 2; Susquehanna County, PA
Date Issued | January 13, 2020.
ADAMS Accession No | ML19336D064.
Amendment Nos | 274 (Unit 1) and 256 (Unit 2).
Brief Description of Amendments | The amendments revised the technical specification definition of “shutdown margin” based on Technical Specifications Task Force Traveler, TSTF-535, Revision 0, “Revise Shutdown Margin Definition to Address Advanced Fuel Designs.”
Docket Nos | 50-387, 50-388.
Susquehanna Nuclear, LLC and Allegheny Electric Cooperative, Inc.;
Susquehanna Steam Electric Station, Units 1 and 2; Susquehanna County, PA
Date Issued | January 17, 2020.
ADAMS Accession No | ML19248A844.
Amendment Nos | 275 (Unit 1) and 257 (Unit 2).
Brief Description of Amendments | The amendments revised requirements in Technical Specification (TS) 3.7.1, “Residual Heat Removal Service Water (RHRSW) System and the Ultimate Heat Sink (UHS),” and TS 3.7.2, “Emergency Service Water (ESW) System,” to temporarily allow one division of the ESW and RHRSW systems to be inoperable for a total of 14 days to address piping degradation. The changes are temporary as annotated by a note in each TS that specifies that the allowance expires on June 25, 2027 for Susquehanna Unit 1 and June 25, 2026 for Unit 2. The amendments also removed the tables of contents from the TSs and placed them under licensee control.
Docket Nos | 50-387, 50-388.
Indiana Michigan Power Company; Donald C. Cook Nuclear Plant, Units 1 and 2;
Berrien County, MI
Date Issued | January 23, 2020.
ADAMS Accession No | ML19329A011.
Amendment Nos | 349 (Unit No. 1) and 330 (Unit No. 2).
Brief Description of Amendments | The amendments revised the Donald C. Cook Nuclear Plant (CNP), Unit Nos. 1 and 2, Technical Specifications (TSs) to apply leak-before-break methodology to the piping associated with the CNP, Unit No. 2, accumulator, residual heat removal system, and safety injection systems and changed CNP, Unit No. 2, TS 3.4.13, “RCS [Reactor Coolant System] Operational LEAKAGE,” to change the value for unidentified leakage from 1 gallon per minute (gpm) to 0.8 gpm. The amendments also revised the CNP, Unit Nos. 1 and 2, TS 3.4.15, “RCS Leakage Detection Instrumentation,” to delete the reference to the containment humidity monitor.
Docket Nos | 50-315, 50-316.
Southern Nuclear Operating Company, Inc.; Vogtle Electric Generating Plant,
Units 3 and 4; Burke County, GA
Date Issued | January 8, 2020.
ADAMS Accession No | ML19343C013.
Amendment Nos | 172 (Unit 3) and 170 (Unit 4).
Brief Description of Amendments | The amendments consisted of changes to the Combined License Appendix A, Technical Specifications (TS) 3.7.11, “Spent Fuel Pool Boron Concentration, Applicability and Required Actions,” to eliminate an allowance to exit the Applicability of Limiting Condition for Operation 3.7.11, “Spent Fuel Pool Boron Concentration,” once a spent fuel pool storage verification had been performed. The amendments also eliminated TS 3.7.11 Required Action A.2.2, which provided an option to perform a spent fuel pool storage verification in lieu of restoring spent fuel pool boron concentration to within limits.
Docket Nos. | 52-025 and 52-026

IV. Previously Published Notice of Consideration of Issuance of Amendments to Facility Operating Licenses and Combined Licenses, Proposed No Significant Hazards Consideration Determination, and Opportunity for a Hearing

The following notices were previously published as separate individual notices. The notice content was the same as above. They were published as individual notices either because time did not allow the commission to wait for this biweekly notice or because the action involved exigent circumstances. They are repeated here because the biweekly notice lists all amendments issued or proposed to be issued involving no significant hazards consideration.

For details, including the applicable notice period, see the individual notice in the Federal Register on the day and page cited.

Entergy Nuclear Operations, Inc., Entergy Nuclear Indian Point 3, LLC;
Indian Point Nuclear Generating Station, Unit No. 3; Westchester County, NY
Application Date | November 21, 2019.
ADAMS Accession No | ML19325E913.
Brief Description of Amendment | The proposed amendment would revise Technical Specification (TS) Surveillance Requirement 3.7.7.2 to allow one of the backflow preventer isolation valves on the Indian Point Unit 3 city water header supply to be maintained closed when in the modes of applicability for TS Limiting Condition for Operation (LCO) 3.7.7 (i.e., during Modes 1, 2, and 3, and Mode 4 when the steam generators are relied upon for heat removal), provided that the requirements of TS LCO 3.7.6 are met.
Date & Cite of Federal Register Individual Notice | January 17, 2020, 85 FR 3081.
Expiration Dates for Public Comments & Hearing Requests | February 18, 2020 (comments); March 17, 2020 (hearing requests).
Docket Nos | 50-286.

Dated at Rockville, Maryland, this 30th day of January 2020.
For the Nuclear Regulatory Commission.
Gregory F. Suber,
Deputy Director, Division of Operating Reactor Licensing, Office of Nuclear Reactor Regulation.

[FR Doc. 2020-02161 Filed 2-10-20; 8:45 am]

BILLING CODE 7590-01-P